DEPARTMENT OF AGRICULTURE

Submission for OMB Review; Comment Request

April 18, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: Rural Establishment Innovation Survey (REIS).

OMB Control Number: 0536-NEW.

Summary of Collection: The Economic Research Service (ERS) plans to conduct the Rural Establishment Innovation Survey (REIS) as a one-time inquiry. The proposed collection will contribute to a better understanding of how international competition and the increasing knowledge intensity of economic activity in the U.S. are affecting the vitality of rural areas and effective adjustment of these pressures. Data obtain from the survey will allow ERS to examine the prevalence of innovation activity in nonmetropolitan businesses and those establishment and community-level characteristics associated with innovation. Information will be collected using a multi-mode survey where respondents will be able to complete the survey via telephone interview or by either completing a questionnaire sent via mail or available electronically through a secure web link. The legal authority for collecting this information is the Rural Development Act of 1972 U.S.C. 2662(b).

Need and Use of the Information: The data collected through the survey will help fill serious gaps in ERS understanding of what rural establishments need to be competitive in the national and global economics and provide USDA and other policymakers with sound information so they can craft more effective rural development policies. The results will inform the degree to which human capital endowments; access to credit; access to infrastructure; and potentially more limited interaction with suppliers, customers, and peer firms impedes processes of rural innovation. Failure to collect this information will severely limit the evidentiary basis for improving the innovative capacity of business establishments located in less favorable areas.

Description of Respondents: Business or other for-profit; Not-for-profit institutions.

Number of Respondents: 34,000.

Frequency of Responses: Reporting: On occasion.

Total Burden Hours: 15,369.

Ruth Brown,
Departmental Information Collection Clearance Officer.

[FR Doc. 2013-09570 Filed 4-23-13; 8:45 am]

BILLING CODE 3410-18-P